DEPARTMENT OF VETERANS AFFAIRS

Annual Pay Ranges for Physicians, Dentists, and Podiatrists of the Veterans Health Administration (VHA)

AGENCY: Department of Veterans Affairs.

ACTION: Notice.

SUMMARY: The Department of Veterans Affairs (VA) Mission Act of 2018 (VA Maintaining Systems and Strengthening Integrated Outside Networks Act), Section 502, provides that podiatrists be paid from the Veterans Health Administration (VHA) physician and dentist pay system.

DATES: Annual pay ranges are applicable November 25, 2018.

FOR FURTHER INFORMATION CONTACT: Farine Cohen, Program Analyst, Policy and Programs, VHA Workforce Management and Consulting Office (10A2A), Department of Veterans Affairs, 810 Vermont Avenue NW, Washington, DC 20420, (202) 461-7179. This is not a toll-free number.

SUPPLEMENTARY INFORMATION: As required by the “Department of Veterans Affairs Health Care Personnel Enhancement Act of 2004,” (Pub. L. 108-445, dated December 3, 2004) VA is hereby giving notice of annual pay ranges for VHA podiatrists as prescribed by the Secretary for Department-wide applicability. The pay table placement and annual salary rates of podiatrists is intended to enhance the flexibility of the Department to recruit, develop, and retain the most highly-qualified podiatrists to serve our Nation's Veterans and maintain a standard of excellence in the VA health care system. Under 38 United States Code (U.S.C.) 7431(e)(1)(A), not less often than once every 2 years, the Secretary must prescribe for Department-wide applicability the minimum and maximum amounts of annual pay that may be paid to VHA physicians and dentists. Further, 38 U.S.C. 7431(e)(1)(B) allows the Secretary to prescribe separate minimum and maximum amounts of pay for a specialty or assignment. In construction of the annual pay ranges, 38 U.S.C. 7431(c)(4)(A) requires the consultation of two or more national surveys of pay, whether prepared by private, public, or quasi-public entities, in order to make a general assessment of the range of pays payable to physicians and dentists. Lastly, 38 U.S.C. 7431(e)(1)(C) states amounts prescribed under paragraph 7431(e) shall be published in the Federal Register and shall not take effect until at least 60 days after date of publication.

Background

The “Department of Veterans Affairs Health Care Personnel Enhancement Act of 2004” (Pub. L. 108-445) was signed by the President on December 3, 2004. The major provisions of the law established a new pay system for VHA physicians and dentists consisting of base pay, market pay, and performance pay. While the base pay component is set by statute, market pay is intended to reflect the recruitment and retention needs for the specialty or assignment of a particular physician or dentist at a facility. Further, performance pay is intended to recognize the achievement of specific goals and performance objectives prescribed annually. These three components create a system of pay that is driven by both market indicators and employee performance, while recognizing employee tenure in VHA.

Discussion

VA identified and utilized salary survey data sources which most closely represent VA comparability in the areas of practice setting, employment environment, and hospital/health care system. Sullivan Cotter and Associates, Medical Group Management Association, and Korn Ferry Hay Group Healthcare Compensation were collectively utilized as benchmarks from which to prescribe annual pay ranges for podiatrists across the scope of assignments/specialties within the Department. While aggregating the data, a preponderance of weight was given to those surveys which most directly resembled the environment of the Department.

In developing pay table placement and annual salary rates of podiatrists, a few distinctive principles were factored into the compensation analysis of the data. The first principle is to ensure that both the minimum and maximum salary is at a level that accommodates special employment situations, from fellowships and medical research career development awards to Nobel Laureates, high-cost areas, and internationally-renowned clinicians. The second principle is to provide ranges large enough to accommodate career progression, geographic differences, sub-specialization, and other special factors.

Several VA data sources were reviewed against available, relevant private sector data. The podiatry specialties are grouped into one clinical pay range that reflect comparable complexity in salary, recruitment, and retention considerations.

Tier level | Minimum | Maximum
Pay Table 1—Clinical Specialty
TIER 1 | $100,967 | $225,000
TIER 2 | 110,000 | 234,000
TIER 3 | 120,000 | 262,000
Pay Table 1—Covered Clinical Specialties
Endocrinology.
Endodontics.
General Practice—Dentistry.
Geriatrics.
Infectious Diseases.
Internal Medicine/Primary Care/Family Practice.
Palliative Care.
Periodontics.
Podiatry (General).
Podiatry (Surgery—Forefoot, Rearfoot/Ankle, Advanced Rearfoot/Ankle).
Preventive Medicine.
Prosthodontics.
Rheumatology.
All other specialties or assignments not requiring a specific specialty training or certification.

Signing Authority

The Secretary of Veterans Affairs approved this document and authorized the undersigned to sign and submit the document to the Office of the Federal Register for publication electronically as an official document of the Department of Veterans Affairs. Robert L. Wilkie, Secretary, Department of Veterans Affairs, approved this document on September 7, 2018 for publication.

Dated: September 7, 2018.
Luvenia Potts,
Program Specialist, Office of Regulation Policy & Management, Office of the Secretary, Department of Veterans Affairs.

[FR Doc. 2018-19847 Filed 9-11-18; 8:45 am]

BILLING CODE 8320-01-P